DEPARTMENT OF AGRICULTURE

National Agricultural Statistics Service

Notice of Intent To Reinstate a Previously Approved Information Collection

AGENCY: National Agricultural Statistics Service, USDA.

ACTION: Notice and request for comments.

SUMMARY: In accordance with the Paperwork Reduction Act of 1995, this notice announces the intention of the National Agricultural Statistics Service (NASS) to request the reinstatement, with changes, to a previously approved information collection, the Conservation Effects Assessment Project (CEAP) Survey. Revision to burden hours will be needed due to changes in the size of the target, sampling design, and/or questionnaire length.

DATES: Comments on this notice must be received by November 24, 2023 to be assured of consideration.

ADDRESSES: You may submit comments, identified by docket number 0535-0245, Conservation Effects Assessment Project (CEAP) Survey, by any of the following methods:

• Email: ombofficer@nass.usda.gov. Include docket number above in the subject line of the message.

• Fax: (855) 838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-4333. Copies of this information collection and related instructions can be obtained without charge from Richard Hopper, NASS Clearance Officer, at (202) 720-2206.

SUPPLEMENTARY INFORMATION:

Title: Conservation Effects Assessment Project (CEAP) Survey.

OMB Control Number: 0535-0245.

Type of Request: Statement to seek reinstatement of an information collection.

Abstract: The Conservation Effects Assessment Project (CEAP) was initiated by the United States Department of Agriculture (USDA) in 2003 as a multi-agency effort to quantify the environmental effects of conservation practices on agricultural lands. As part of this assessment, the National Agricultural Statistics Service (NASS) conducted on-site interviews with farmers during 2003-2006 to document tillage and irrigation practices, application of fertilizer, manure, and pesticides, and use of conservation practices at sample points drawn from the Natural Resources Inventory (NRI) sampling frame. These data were linked through the NRI frame to the Natural Resources Conservation Service (NRCS) soil, climate, and historical survey databases. The combined information was used to model the impact on soil and water resources and to estimate the benefits of conservation practices, including nutrient, sediment, and pesticide losses from farm fields, reductions of in-stream nutrient and sediment concentrations, and impacts on soil quality and erosion.

USDA needs updated scientifically credible data on residue and tillage management, nutrient management, and conservation practices in order to quantify and assess current impacts of farming practices and to document changes. A pilot survey focused in the Chesapeake Bay Watershed was conducted for the 2011 crop year. In 2012 the target area was the Western Lake Erie Basin and the Des Moines River Watershed. In 2013 the target area was the Sacramento River, San Joaquin and Tulare Lake basin watersheds. This group of surveys is referred to as the “NRI Conservation Tillage and Nutrient Management Survey” (NRI-CTNMS). The survey questionnaires are modeled after the 2003-2006 CEAP surveys and were administered through personal interviews of farm operators by trained National Association of State Departments of Agriculture (NASDA) enumerators. Under the current approval the sample sizes averaged less than 2,500 operators per year. In 2014 NASS was conducting the survey in the St. Francis River Basin (Arkansas, Missouri and Mississippi). In 2015 and 2016 the CEAP program was expanded to the US level. The target sample size for this approval will be approximately 20,000 farm operators each year.

The data that is collected by the CEAP surveys, provide conservation tillage estimates and is used to model impacts of conservation practices on the larger environment. The summarized results of the survey are available in a web-based format to agricultural producers and professionals, government officials, and the general public.

Authority: The Natural Resources Conservation Service's (NRCS's) participation in this agreement is authorized under the Soil and Water Resources Conservation Act of 1977, 16 U.S.C. 2001-2009, as amended, Economy Act U.S.C. 1535. NRCS contracted with NASS to collect and compile this data for them. These data will be collected under the authority of 7 U.S.C. 2204(a). Individually identifiable data collected under this authority are governed by section 1770 of the Food Security Act of 1985 as amended, 7 U.S.C. 2276, which requires USDA to afford strict confidentiality to non-aggregated data provided by respondents. This notice is submitted in accordance with the Paperwork Reduction Act of 1995, Public Law 104-13 (44 U.S.C. 3501, et seq.) and Office of Management and Budget (OMB) regulations at 5 CFR part 1320.

All NASS employees and NASS contractors must also fully comply with all provisions of the Confidential Information Protection and Statistical Efficiency Act (CIPSEA) of 2018, title III of Public Law 115-435, codified in 44 U.S.C. ch. 35. CIPSEA supports NASS's pledge of confidentiality to all respondents and facilitates the agency's efforts to reduce burden by supporting statistical activities of collaborative agencies through designation of NASS agents, subject to the limitations and penalties described in CIPSEA. NASS uses the information only for statistical purposes and publishes only tabulated total data.

Estimate of Burden: Burden will be approximately 10 minutes for a first visit to verify the operator of the NRI point. The operators who did not screen out during the initial visit will be contacted at a later time to complete the survey. The second visit will take an estimated 60 minutes to complete the interview. (It may be possible to complete both during the same visit).

Respondents: Farmers and ranchers.

Estimated Number of Respondents: 20,000 annually.

Frequency of Responses: Potentially, 2 times for each respondent.

Estimated Total Annual Burden: 13,080 hours (based on an overall response rate of approximately 80%).

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, September 7, 2023.
Kevin L. Barnes,
Associate Administrator.

[FR Doc. 2023-20578 Filed 9-22-23; 8:45 am]

BILLING CODE 3410-20-P